SECURITIES AND EXCHANGE COMMISSION

17 CFR Part 201

[Release Nos. 33-10104; 34-78156; IA-4437; IC-32162; File No. S7-11-16]

RIN 3235-AL94

Adjustments to Civil Monetary Penalty Amounts

AGENCY: Securities and Exchange Commission.

ACTION: Interim final rule; request for comment.

SUMMARY: The Securities and Exchange Commission (the “Commission”) is adopting an interim final rule to implement the Federal Civil Penalties Inflation Adjustment Act Improvements Act of 2015, which amended the Federal Civil Penalties Inflation Adjustment Act of 1990, as previously amended by the Debt Collection Improvement Act of 1996. This interim final rule adjusts for inflation the maximum amount of civil monetary penalties under the Securities Act of 1933, the Securities Exchange Act of 1934, the Investment Company Act of 1940, the Investment Advisers Act of 1940, and certain penalties under the Sarbanes-Oxley Act of 2002.

DATES: Effective Date: This interim final rule is effective on August 1, 2016. Comment Date: Comments on the interim final rule should be received on or before August 15, 2016.

ADDRESSES: Comments may be submitted by any of the following methods:

Electronic Comments

• Use the Commission's Internet comment form (http://www.sec.gov/rules/proposed.shtml); or

• Send an email to rule-comments@sec.gov. Please include File Number S7-11-16 on the subject line; or

• Use the Federal eRulemaking Portal (http://www.regulations.gov). Follow the instructions for submitting comments.

Paper Comments

• Send paper comments to Brent J. Fields, Secretary, Securities and Exchange Commission, 100 F Street NE., Washington, DC 20549-1090.

All submissions should refer to File Number S7-11-16. This file number should be included on the subject line if email is used. To help us process and review your comments more efficiently, please use only one method. The Commission will post all comments on the Commission's Web site (http://www.sec.gov/rules/proposed.shtml). Comments are also available for Web site viewing and printing in the Commission's Public Reference Room, 100 F Street NE., Washington, DC 20549, on official business days between the hours of 10:00 a.m. and 3:00 p.m. All comments received will be posted without change; we do not edit personal identifying information from submissions. You should submit only information that you wish to make available publicly.

FOR FURTHER INFORMATION CONTACT: James A. Cappoli, Assistant General Counsel, Office of the General Counsel, at (202) 551-7923, or Stephen M. Ng, Senior Counsel, Office of the General Counsel, at (202) 551-7957.

I. Background

This interim final rule implements the Federal Civil Penalties Inflation Adjustment Act Improvements Act of 2015 (the “2015 Act”),¹ which amends the Federal Civil Penalties Inflation Adjustment Act of 1990 (the “Inflation Adjustment Act”).² The Inflation Adjustment Act had previously been amended by the Debt Collection Improvement Act of 1996 (“DCIA”) ³ to require that each federal agency adopt regulations at least once every four years that adjust for inflation the maximum amount of the civil monetary penalties (“CMPs”) under the statutes administered by the agency. Pursuant to the requirements of the DCIA, the Commission has previously adopted regulations in 1996, 2001, 2005, 2009, and 2013 to adjust the maximum amount of the CMPs under the statutes the Commission administers.⁴

¹ Public Law 114-74 Sec. 701, 129 Stat. 599-601 (Nov. 2, 2015), codified at 28 U.S.C. 2461 note.

² Public Law 101-410, 104 Stat. 890-892 (1990), codified at 28 U.S.C. 2461 note.

³ Public Law 104-134, Title III, § 31001(s)(1), Apr. 26, 1996, 110 Stat. 1321-373, codified at 28 U.S.C. 2461 note.

⁴ See 17 CFR part 201.1001 to 1005, and Tables I to V to Subpart E.

The 2015 Act replaces the inflation adjustment mechanism prescribed in the DCIA and all previous inflation adjustments made pursuant to the DCIA with a new mechanism for calculating the inflation-adjusted amount of CMPs. Each agency must first adjust the maximum amount of CMPs ⁵ with an initial “catch-up” adjustment.⁶ Each agency must then perform subsequent annual adjustments for inflation.⁷ This interim final rule implements the initial “catch-up adjustment,” which increases CMP amounts based on the percentage change between the Consumer Price Index for all Urban Consumers (“CPI-U”) for the month of October in the year the civil penalty was established or previously adjusted by a statute or regulation other than the Inflation Adjustment Act, and the October 2015 CPI-U.⁸ Annual inflation adjustments after this first catch-up adjustment will then be based on the percentage change between the October CPI-U preceding the date of the last adjustment made pursuant to the 2015 Act and the prior year's October CPI-U.⁹ Thus, in January 2017, the Commission will again adjust the maximum amount of the CMPs it administers based on the percentage change from the 2015 October CPI-U to the 2016 October CPI-U.

⁵ The 2015 Act also applies to minimum penalty amounts and penalty ranges. See 28 U.S.C. 2461 note Sec. 5(a). All of the statutes administered by the Commission, however, only include maximum penalty amounts. Thus, in this interim final rule, we only refer to the effect of the 2015 Act on maximum penalty amounts.

⁶ 28 U.S.C. 2461 note Sec. 4(b)(1); Office of Management and Budget, Implementation of the Federal Civil Penalties Inflation Adjustment Act Improvements Act of 2015 (February 24, 2016) (“OMB Guidance”) at 1, available at https://www.whitehouse.gov/sites/default/files/omb/memoranda/2016/m-16-06.pdf.

⁷ 28 U.S.C. 2461 note Sec. 4(b)(2); OMB Guidance at 1.

⁸ 28 U.S.C. 2461 note Sec. 5(b)(2); OMB Guidance at 3. The catch-up adjustment excludes prior adjustments under the Inflation Adjustment Act, which were capped at 10 percent and thus contributed to a decline in the real value of penalties. See OMB Guidance at 3. The 2015 Act is intended to remedy this decline. See id.

⁹ 28 U.S.C. 2461 note Sec. 5; OMB Guidance at 4.

A CMP is defined in relevant part as any penalty, fine, or other sanction that: (1) Is for a specific amount, or has a maximum amount, as provided by federal law; and (2) is assessed or enforced by an agency in an administrative proceeding or by a federal court pursuant to federal law.¹⁰ This definition applies to the monetary penalty provisions contained in four statutes administered by the Commission: The Securities Act of 1933; the Securities Exchange Act of 1934 (the “Exchange Act”); the Investment Company Act of 1940; and the Investment Advisers Act of 1940. In addition, the Sarbanes-Oxley Act of 2002 provides the Public Company Accounting Oversight Board (the “PCAOB”) authority to levy civil monetary penalties in its disciplinary proceedings pursuant to 15 U.S.C. 7215(c)(4)(D).¹¹ The definition of a CMP in the 1990 Act encompasses such civil monetary penalties.¹²

¹⁰ 28 U.S.C. 2461 note Sec. 3(2). Thus the adjustments prescribed by the 2015 Act do not apply to penalties written as functions of violations or to civil penalties based on the defendant's gross pecuniary gain. OMB Guidance at 2.

¹¹ 15 U.S.C. 7215(c)(4)(D).

¹² The Commission may by order affirm, modify, remand, or set aside sanctions, including civil monetary penalties, imposed by the PCAOB. See Section 107(c) of the Sarbanes-Oxley Act of 2002, 15 U.S.C. 7217. The Commission may enforce such orders in federal district court pursuant to Section 21(e) of the Securities Exchange Act of 1934. As a result, penalties assessed by the PCAOB in its disciplinary proceedings are penalties “enforced” by the Commission for purposes of the Act. See Adjustments to Civil Monetary Penalty Amounts, Release No. 33-8530 (Feb. 4, 2005) [70 FR 7606 (Feb. 14, 2005)].

Accordingly, we are revising 17 CFR 201.1001 and Table I to Subpart E, to establish revised amounts for each CMP authorized by the Securities Act, the Exchange Act, the Investment Company Act, the Investment Advisers Act, and certain penalties under the Sarbanes-Oxley Act and removing § 201.1002 and Table II to Subpart E, § 201.1003 and Table III to Subpart E, § 201.1004 and Table IV to Subpart E, and § 201.1005 and Table V to Subpart E. The adjustments set forth in the amendment apply to all penalties imposed after the effective date of this interim final rule, including to penalties imposed for violations that occur before the effective date of the amendment.¹³

¹³ 28 U.S.C. 2461 note Sec. 6; OMB Guidance at 3-4.

II. Summary of the Calculation

In order to complete the catch-up adjustment required by the 2015 Act, the Commission must first identify, for each penalty, the year and corresponding penalty amount when the maximum penalty amount was established (i.e., as originally enacted by Congress), or last adjusted (i.e., by Congress in statute, or by the agency through regulation), whichever is later, other than pursuant to the Inflation Adjustment Act.¹⁴

¹⁴ 28 U.S.C. 2461 note Sec. 5(b)(2)(A); OMB Guidance at 3. References to the Inflation Adjustment Act here and below include the amendments made to that Act by the DCIA.

The Commission must then modify the maximum amount of CMPs based on the percentage by which the CPI-U for the month of October 2015, not seasonally adjusted, exceeds the CPI-U for the month of October for the calendar year when the penalty amount was established or last adjusted. OMB has provided a table to all agencies that lists multipliers that can be used to adjust the maximum penalty amount based on the year the penalty was established or last adjusted (the “CPI-U Multiplier”).¹⁵ After applying this multiplier, the Commission must round all penalty amounts to the nearest dollar. In accordance with the 2015 Act, however, the Commission shall not increase catch-up penalty amounts by more than 150 percent of the corresponding penalty amount in effect on November 2, 2015, including penalty adjustments made pursuant to the Inflation Adjustment Act prior to that date.¹⁶

¹⁵ 28 U.S.C. 2461 note Sec. 5(b)(2)(B); OMB Guidance at 3, Table A.

¹⁶ 28 U.S.C. 2461 note Sec. 5(b)(2)(C); OMB Guidance at 3. Because the 150 percent limitation is on the amount of the increase, the adjusted penalty will be up to 250 percent above the amount in effect on November 2, 2015.

To explain the inflation adjustment calculation for CMP amounts under the 2015 Act, we provide the following example based on the CMP for certain insider trading violations by controlling persons in Exchange Act Section 21A(a)(3).¹⁷

¹⁷ 15 U.S.C. 78u-1(a)(3).

Step 1: The Commission identifies the year that the CMP was established or last adjusted and the maximum CMP for that year. The maximum penalty amount for this provision was established in 1988 by the Insider Trading and Securities Fraud Enforcement Act of 1988.¹⁸ When established, the maximum penalty amount for a violation of this provision was $1,000,000.

¹⁸ Public Law 100-704, Sec. 3(a)(2), 102 Stat. 4677-4679 (1988). The Dodd-Frank Wall Street Reform and Consumer Protection Act of 2010 authorized the Commission to impose civil penalties in cease-and-desist proceedings. See 15 U.S.C. 77h-1(g), 15 U.S.C. 78u-2(b), 15 U.S.C. 80a-9(d)(1)(B), 15 U.S.C. 80b-3(i)(1)(B). For the Securities Act, Congress provided this authority in a new section of that Act, whereas for the Exchange Act, the Investment Company Act, and the Investment Advisers Act, Congress cross-referenced pre-existing penalty amounts for administrative proceedings that were established in 1990. Therefore, for the purposes of applying the 2015 Act, the amounts of the penalties for cease-and-desist proceedings under the Securities Act were established in 2010 and the amounts of the penalties for cease-and-desist proceedings under the Exchange Act, the Investment Company Act, and the Investment Advisers Act were established in 1990.

Step 2: The Commission multiplies the maximum penalty amount at the time the penalty amount was established or last adjusted by the CPI-U multiplier, representing the percentage change in the CPI-U from October in the year the penalty was established or last adjusted to October 2015, and rounds that number to the nearest dollar. Thus, we multiply $1,000,000 by the multiplier for 1988, 1.97869, to determine a new inflation-adjusted maximum CMP of $1,978,690.

Step 3: The Commission identifies the maximum CMP for the penalty provision as of November 2, 2015, including adjustments made pursuant to the Inflation Adjustment Act. For Section 21A(a)(3), the maximum CMP was previously adjusted in 2013 pursuant to the Inflation Adjustment Act to $1,525,000.¹⁹

¹⁹ 17 CFR 201.1005, Table V.

Step 4: The Commission multiplies the November 2, 2015 maximum CMP by 2.5 to determine what a 150 percent increase from the current penalty would be. This is the maximum increase in the CMP that can be made pursuant to the catch-up adjustment. For Section 21A(a)(3), a 150 percent increase from the current penalty would be $3,812,500.

Step 5: The Commission compares the amount in Step 2 to the amount in Step 4. The lesser of these two amounts will be the new inflation-adjusted penalty amount. Because the adjusted penalty amount in Step 2, $1,978,690, is less than the maximum penalty allowed in Step 4, $3,812,500, the new inflation adjusted penalty amount for Section 21A(a)(3) is $1,978,690.²⁰

²⁰ Almost all of the new inflation-adjusted penalty amounts listed below were obtained by multiplying the penalty amount in the year the penalty was established or last adjusted by the CPI-U multiplier. The only exception is the civil penalty for violations of Exchange Act Section 32(b), 15 U.S.C. 78ff(b), in which the inflation-adjusted penalty amount would have been greater than the maximum 150 percent increase allowed by the 2015 Act.

III. The Commission Declines To Seek a Reduced Catch-Up Adjustment Determination

The 2015 Act allows agencies, after obtaining concurrence from OMB, to adjust penalties pursuant to a reduced catch-up adjustment determination.²¹ In making such an adjustment, the agency must publish a notice of proposed rulemaking, provide an opportunity for comment, and determine in a final rule that a reduced catch-up adjustment determination is warranted because the otherwise required increase of a maximum penalty amount would have a negative economic impact, or because the social costs of the otherwise required adjustment would outweigh the benefits.²²

²¹ OMB has stated its expectation that it will only rarely concur with a proposal to reduce penalty amounts below that required by the 2015 Act. See OMB Guidance at 3.

²² 28 U.S.C. 2461 note Sec. 4(c); OMB Guidance at 3.

We have concluded that such a reduced catch-up adjustment determination is not necessary and instead have adopted the adjustments prescribed by the 2015 Act. The increases envisioned by the 2015 Act ensure that the Commission's CMPs maintain their deterrent and remedial effect and prevent these desired effects from being diminished by inflation. We do not believe they will have a negative economic impact.²³ Further, while the adjustments required by the 2015 Act do raise the maximum amounts of the Commission's CMPs, the percentage increases in the maximum amounts are generally consistent with previous inflation adjustments and the Commission and the courts always maintain the discretion to impose a lower penalty amount if the new maximum amount would be unjust or inappropriate in a particular case.

²³ See infra Section VI for the Commission's Economic Analysis.

IV. Request for Comment

We request and encourage interested persons to submit comments on any aspect of this interim final rule, other matters that might have an impact on the rule, and any suggestions for additional changes. In particular, we invite comments on whether, contrary to the conclusion set forth above, the Commission should seek a reduced catch-up adjustment determination. Comments on this topic should address the statutory bases for requesting a reduced catch-up adjustment determination: (1) Whether the otherwise required increase of the maximum amount of the CMPs administered by the Commission would have a negative economic impact, or (2) whether the social costs of adopting the otherwise required increase of the maximum amount of these CMPs would outweigh the benefits. With respect to any such comments, they are of greatest assistance if accompanied by supporting data and analysis of the issues listed above.

V. Procedural and Other Matters

Given that the Commission is not seeking a reduced catch-up adjustment determination, the Commission is required by the 2015 Act to adjust the CMPs within its jurisdiction for inflation using a statutorily prescribed formula and the 2015 Act mandates that the initial catch-up adjustment be made through an interim final rule effective not later than August 1, 2016.²⁴ In light of this Congressional mandate, the Commission finds that good cause exists to dispense with public notice and comment pursuant to the notice and comment provisions of the Administrative Procedure Act (“APA”).²⁵ Under the Regulatory Flexibility Act (“RFA”), a regulatory flexibility analysis is required only when an agency must publish a general notice of proposed rulemaking.²⁶ As noted above, public notice and comment is not required for this interim final rule; therefore, a regulatory flexibility analysis is not required. Further, this rule does not contain any collection of information requirements as defined by the Paperwork Reduction Act of 1995 as amended.²⁷

²⁴ 28 U.S.C. 2461 note Sec. 4(b)(1).

²⁵ 5 U.S.C. 553(b)(3)(B). This finding also satisfies the requirements of 5 U.S.C. 808(2), allowing the amendment to become effective notwithstanding the requirement of 5 U.S.C. 801 (if a federal agency finds that notice and public comment are impractical, unnecessary or contrary to the public interest, a rule shall take effect at such time as the federal agency promulgating the rule determines).

²⁶ 5 U.S.C. 603.

²⁷ 44 U.S.C. 3501 et. seq.

VI. Economic Analysis

The Commission is sensitive to the costs and benefits that result from its rules. The baseline for this analysis is the statutory framework described above in Section I. In enacting the 2015 Act, Congress directed the Commission to adjust CMPs in accordance with inflation. The Commission notes that this regulation has no impact on disclosure or compliance costs. The Commission further notes that the CMPs ordered in SEC proceedings and PCAOB disciplinary proceedings in fiscal year 2015 totaled approximately $1,176 million. The inflationary adjustment required by the 2015 Act results in the increase of the maximum amount of the CMPs administered by the Commission of approximately 7.67% to 11.3%. Assuming that the Commission is successful in obtaining civil monetary penalties in fiscal years subsequent to the enactment of this regulation in similar proportion to that obtained in fiscal year 2015, the inflationary adjustment pursuant to the new regulation would result in an increase in the civil monetary penalties ordered of approximately $90.1 million to $132.9 million.

This potential increase, however, overstates the effect of the rule. First, these figures represent the amount of penalties that could be potentially ordered, whereas the amount of penalties collected in any given year—the amount of penalties that would affect the economy—can be lower than the ordered amount. Second, penalties imposed in insider trading cases brought in district court are based on the profit gained or loss avoided as a result of the violation rather than by reference to a statutory dollar amount that is affected by this regulation.²⁸ The average annual amount of penalties obtained in insider trading cases from FY 2010 through FY 2015 is $108.2 million. Third, in many cases where the Commission has obtained large civil monetary penalties, such penalties were calculated on the basis of the defendant's gross pecuniary gain rather than the maximum penalty dollar amount set by statute that will be adjusted by the proposed rule.²⁹ In addition, the intent of the new regulation is merely to keep pace with changes in the economy, not to impose new costs. Therefore, for the instances in which CMPs affected by this rulemaking are imposed, the Commission does not believe that adjusting civil monetary penalties pursuant to the 2015 Act will significantly affect the amount of penalties it obtains beyond that necessary to keep pace with inflation.

²⁸ 15 U.S.C. 78u-1(a)(2).

²⁹ For example, 15 U.S.C. 77t(d)(2)(A), after adjusting for inflation as required by the 2015 Act, provides that the amount of the penalty shall not exceed the greater of $8,908 for a natural person or $89,708 for any other person, or the gross amount of pecuniary gain to such defendant as a result of the violation.

The benefit provided by the inflationary adjustment to the maximum civil monetary penalties is that of maintaining the level of deterrence effectuated by the civil monetary penalties, and not allowing such deterrent effect to be diminished by inflation. The costs of implementing this rule should be negligible because the only change from the current, baseline situation is determining potential penalties using a new maximum dollar amount.

VII. Statutory Basis

The Commission is adopting these revisions to 17 CFR part 201, subpart E pursuant to the directives and authority of the Federal Civil Penalties Inflation Adjustment Act Improvements Act of 2015, Public Law 114-74, 129 Stat. 599-601 (Nov. 2, 2015).

List of Subjects in 17 CFR Part 201

Administrative practice and procedure, Claims, Confidential business information, Lawyers, Penalties, Securities.

Text of Amendment

For the reasons set forth in the preamble, part 201, title 17, chapter II of the Code of Federal Regulations is amended by revising Subpart E as set forth below:

PART 201—RULES OF PRACTICE

Subpart E—Adjustment of Civil Monetary Penalties
Sec.
201.1001 Adjustment of civil monetary penalties—2016.
Table I to Subpart E of Part 201— Civil monetary penalty inflation adjustments.

Authority: 28 U.S.C. 2461 note.

Subpart E—Adjustment of Civil Monetary Penalties

§ 201.1001 Adjustment of civil monetary penalties—2016.

As required by the Federal Civil Penalties Inflation Adjustment Act Improvements Act of 2015, the maximum amounts of all civil monetary penalties under the Securities Act of 1933, the Securities Exchange Act of 1934, the Investment Company Act of 1940, and the Investment Advisers Act of 1940, and certain penalties under the Sarbanes-Oxley Act of 2002 are adjusted for inflation in accordance with Table I to this subpart E. The adjustments set forth in Table I to this subpart E apply to all penalties imposed after August 1, 2016, including to penalties imposed for violations that occur before August 1, 2016.

Table I to Subpart E of Part 201—Civil Monetary Penalty Inflation Adjustments
U.S. Code citation | Civil monetary penalty description | Year penalty amount was established or last adjusted * | Maximum penalty amount when established or last adjusted | Maximum penalty amount in effect on November 2, 2015 | New adjusted maximum penalty amount effective August 1, 2016
Securities and Exchange Commission:
15 U.S.C. 77h-1(g) | For natural person | 2010 | $7,500 | $7,500 | $8,156
| For any other person | 2010 | 75,000 | 80,000 | 81,559
| For natural person/fraud | 2010 | 75,000 | 80,000 | 81,559
| For any other person/fraud | 2010 | 375,000 | 400,000 | 407,794
| For natural person/substantial losses or risk of losses to others or gains to self | 2010 | 150,000 | 160,000 | 163,118
| For any other person/substantial losses or risk of losses to others or gain to self | 2010 | 725,000 | 775,000 | 788,401
15 U.S.C. 77t(d) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others | 1990 | 100,000 | 160,000 | 178,156
| For any other person/substantial losses or risk of losses to others | 1990 | 500,000 | 775,000 | 890,780
15 U.S.C. 78ff(b) | Exchange Act/failure to file information documents, reports | 1936 | 100 | 210 | 525
15 U.S.C. 78ff(c)(1)(B) | Foreign Corrupt Practices—any issuer | 1988 | 10,000 | 16,000 | 19,787
15 U.S.C. 78ff(c)(2)(B) | Foreign Corrupt Practices—any agent or stockholder acting on behalf of issuer | 1988 | 10,000 | 16,000 | 19,787
15 U.S.C. 78u-1(a)(3) | Insider Trading—controlling person | 1988 | 1,000,000 | 1,525,000 | 1,978,690
15 U.S.C. 78u-2 | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others or gains to self | 1990 | 100,000 | 160,000 | 178,156
| For any other person/substantial losses or risk of losses to others or gain to self | 1990 | 500,000 | 775,000 | 890,780
15 U.S.C. 78u(d)(3) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others | 1990 | 100,000 | 160,000 | 178,156
| For any other person/substantial losses or risk of losses to others | 1990 | 500,000 | 775,000 | 890,780
15 U.S.C. 80a-9(d) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others or gains to self | 1990 | 100,000 | 160,000 | 178,156
| For any other person/substantial losses or risk of losses to others or gain to self | 1990 | 500,000 | 775,000 | 890,780
15 U.S.C. 80a-41(e) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others | 1990 | 100,000 | 160,000 | 178,156
| For any other person/substantial losses or risk of losses to others | 1990 | 500,000 | 775,000 | 890,780
15 U.S.C. 80b-3(i) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others or gains to self | 1990 | 100,000 | 160,000 | 178,156
| For any other person/substantial losses or risk of losses to others or gain to self | 1990 | 500,000 | 775,000 | 890,780
15 U.S.C. 80b-9(e) | For natural person | 1990 | 5,000 | 7,500 | 8,908
| For any other person | 1990 | 50,000 | 80,000 | 89,078
| For natural person/fraud | 1990 | 50,000 | 80,000 | 89,078
| For any other person/fraud | 1990 | 250,000 | 400,000 | 445,390
| For natural person/substantial losses or risk of losses to others | 1990 | 100,000 | 160,000 | 178,156
| For any other person/substantial losses or risk of losses to others | 1990 | 500,000 | 775,000 | 890,780
15 U.S.C. 7215(c)(4)(D)(i) | For natural person | 2002 | 100,000 | 130,000 | 131,185
| For any other person | 2002 | 2,000,000 | 2,525,000 | 2,623,700
15 U.S.C. 7215(c)(4)(D)(ii) | For natural person | 2002 | 750,000 | 950,000 | 983,888
| For any other person | 2002 | 15,000,000 | 18,925,000 | 19,677,750
* Adjustments include any revisions by Congress in statute, or by the agency through regulation, other than pursuant to the Inflation Adjustment Act.

Dated: June 27, 2016.
By the Commission.
Brent J. Fields,
Secretary.

[FR Doc. 2016-15541 Filed 6-30-16; 8:45 am]

BILLING CODE 8011-01-P